DEPARTMENT OF COMMERCE

Bureau of Industry and Security

Submission for OMB Review; Comment Request; Technical Data Letter of Explanation

The Department of Commerce will submit to the Office of Management and Budget (OMB) for clearance the following proposal for collection of information under the provisions of the Paperwork Reduction Act (44 U.S.C. Chapter 35).

Agency: Bureau of Industry and Security.

Title: Technical Data Letter of Explanation.

Form Number(s): N/A.

OMB Control Number: 0694-0047.

Type of Review: Regular submission.

Estimated Total Annual Burden Hours: 6,226.

Estimated Number of Respondents: 6,313.

Estimated Time per Response: 30 minutes-2 hours.

Needs and Uses: These technical data letters of explanation will assure the Bureau of Industry and Security that U.S.-origin technical data will be exported only for authorized end-uses, users and destinations.

Affected Public: Business or other for-profit organizations.

Frequency: On Occasion.

Respondent's Obligation: Voluntary.

This information collection request may be viewed at reginfo.gov http://www.reginfo.gov/public/. Follow the instructions to view Department of Commerce collections currently under review by OMB.

Written comments and recommendations for the proposed information collection should be sent within 30 days of publication of this notice to OIRA_Submission@omb.eop.gov.

Sheleen Dumas,
PRA Departmental Lead, Office of the Chief Information Officer.

[FR Doc. 2017-04298 Filed 3-3-17; 8:45 am]

BILLING CODE 3510-33-P